DEPARTMENT OF HEALTH AND HUMAN SERVICES

Administration for Children and Families

Office on Trafficking in Persons; Notice of Meeting

AGENCY: Administration for Children and Families (ACF), Department of Health and Human Services.

ACTION: Announcement of meeting and call for best practices.

SUMMARY: Notice is hereby given, pursuant to the provisions of the Federal Advisory Committee Act (FACA) and the Preventing Sex Trafficking and Strengthening Families Act, that a meeting of the National Advisory Committee (NAC) on the Sex Trafficking of Children and Youth in the United States (Committee) will be held on December 10, 2018. The purpose of the meeting is for the Committee to discuss its duties and information for a draft outline on recommended best practices for States to follow in combating the sex trafficking of children and youth based on multidisciplinary research and promising, evidence-based models and programs. The Committee members will remain in Washington, DC, on December 11, 2018, to conduct internal subcommittee meetings and a fact-finding site visit.

DATES: The meeting will be held on Monday, December 10, 2018, from 9:30 a.m. to 5:00 p.m. ET.

ADDRESSES: The meeting will be held at 330 C Street SW, Washington, DC, 20201. Space is limited. Identification will be required at the entrance of the facility (e.g., passport, state ID, or federal ID).

To attend the meeting virtually, please register for this event online: https://www.acf.hhs.gov/otip/resource/nacagenda1218.

FOR FURTHER INFORMATION CONTACT: Katherine Chon, Director, Office on Trafficking in Persons, Designated Federal Officer (DFO) at EndTrafficking@acf.hhs.gov or (202) 205-4554 or 330 C Street SW, Washington, DC, 20201. Additional information is available at https://www.acf.hhs.gov/otip/partnerships/the-national-advisory-committee.

SUPPLEMENTARY INFORMATION: The formation and operation of the NAC are governed by the provisions of Public Law 92-463, as amended (5 U.S.C. App. 2), which sets forth standards for the formation and use of federal advisory committees.

Purpose of the NAC: The purpose of the NAC is to advise the Secretary and the Attorney General on practical and general policies concerning improvements to the nation's response to the sex trafficking of children and youth in the United States. The NAC is established pursuant to Section 121 of the Preventing Sex Trafficking and Strengthening Families Act of 2014 (Pub. L. 113-183).

Tentative Agenda: The agenda can be found at https://www.acf.hhs.gov/otip/resource/nacagenda1218.

To submit written statements or RSVP to attend in-person or make verbal statements, email Ava.Donald@acf.hhs.gov by November 19, 2018. Please include your name, organization, and phone number. More details on these options are below.

Public Accessibility to the Meeting: Pursuant to 5 U.S.C. 552(b) and 41 CFR 102-3.140 through 102-3.165, and subject to the availability of space, this meeting is open to the public. Seating is on a first to arrive basis. Security screening and a photo ID are required. Space and parking is limited. The building is fully accessible to individuals with disabilities.

Written Statements: Pursuant to 41 CFR 102-3.105(j) and 102-3.140 and section 10(a)(3) of the FACA, the public may submit written statements in response to the stated agenda of the meeting or to the committee's mission in general. Organizations with recommendations on best practices are encouraged to submit their comments or resources (hyperlinks preferred). Written comments or statements received after November 19, 2018, may not be provided to the Committee until its next meeting.

Verbal Statements: Pursuant to 41 CFR 102-3.140(d), the Committee is not obligated to allow a member of the public to speak or otherwise address the Committee during the meeting. Members of the public are invited to provide verbal statements during the Committee meeting only at the time and manner described in the agenda. The request to speak should include a brief statement of the subject matter to be addressed and should be relevant to the stated agenda of the meeting or the Committee's mission in general.

Minutes: The minutes of this meeting will be available for public review and copying within 90 days at: https://www.acf.hhs.gov/otip/partnerships/the-national-advisory-committee.

Dated: October 31, 2018.
Lynn A. Johnson,
Assistant Secretary for Children and Families.

[FR Doc. 2018-24475 Filed 11-7-18; 8:45 am]

BILLING CODE 4184-40-P